DEPARTMENT OF THE INTERIOR

Bureau of Reclamation

Rural Water Supply Program Approved Appraisal Reports; Availability

AGENCY: Bureau of Reclamation, Interior.

ACTION: Notice of availability.

SUMMARY: Reclamation provides assistance for appraisal investigations and feasibility studies for rural water supply projects intended to serve a community or group of communities with domestic, industrial, and municipal water. This assistance helps rural communities assess their potable water needs and identify options to address those needs.

Three appraisal reports were approved in Fiscal Year 2010 and two were approved in Fiscal Year 2011. The initial appraisal investigations were submitted by the participants for review to assess technical adequacy and completeness. Once reviewed, Reclamation prepared these reports to document the findings and conclusions of the appraisal investigations that identified the water supply problems, needs, and opportunities in the planning study areas. The approval of an appraisal report indicates that there is a viable alternative that warrants a more detailed investigation through a feasibility study.

SUPPLEMENTARY INFORMATION: The approved appraisal reports can be downloaded from our Web site: http://www.usbr.gov/ruralwater.

FOR FURTHER INFORMATION CONTACT: Mr. Joseph Wilson by telephone at (303) 445-2856, or by e-mail at jwilson@usbr.gov. Copies are also available for public review at the following locations:

• Dry-Redwater Rural Water System Appraisal Report, Bureau of Reclamation, Montana Area Office, 2900 Fourth Avenue North, Billings, MT 59101, (406) 247-7300

• Douglas County Rural Water Project Appraisal Report, Bureau of Reclamation, Eastern Colorado Area Office, 11056 W. County Rd 18E, Loveland, CO 80537-9711, (970) 667-4410

• Lower Niobrara Natural Resource District Appraisal Report, Bureau of Reclamation, Nebraska Kansas Area Office, 203 West 2nd Street, Grand Island, NE 68801-5907, (308) 389-5301

• Musselshell-Judith Rural Water System Appraisal Report, Bureau of Reclamation, Montana Area Office, 2900 Fourth Avenue North, Billings, MT 59101, (406) 247-7300

• Southern Black Hills Regional Water System Appraisal Report, Bureau of Reclamation, Dakotas Area Office, 304 E. Broadway Avenue, Bismarck, ND 58501, (701) 250-4242 x3101

Authority

Reclamation Rural Water Supply Act of December 22, 2006 (Pub. L. 109-451, Title I, 120 Stat. 3346, 43 U.S.C. 2401, et seq.) authorizes Reclamation to establish a program to work with rural communities, including Indian tribes, in the 17 Western States to assess rural water supply needs and identify options to address those needs through appraisal investigations and feasibility studies.

Background

The Douglas County Rural Water Project Appraisal Report addresses the County's extremely low recharge into and high withdrawal amounts from the Denver Basin aquifers and proposes to resolve this issue by replacing current groundwater supplies with an alternative source of water. The proposed alternative includes water treatment, raw and finished water transmission, finished water storage, and aquifer storage and recovery for delivery of surface water from existing diversions and water impoundments on the South Platte River to this large rural region of central Colorado.

The Dry-Redwater Rural Water System project would serve a population of about 15,000 people in the project area, including the towns of Circle, Richey, Jordan, and Fairview; the unincorporated town of Lambert; the water districts of Highland Park, Forrest Park, Spring Grove, and Whispering Tree; and rural users in the service area. It examines opportunities to provide communities, unincorporated areas, and rural areas in east-central Montana with a present and future source of high quality water from North Rock Creek in the Big Dry Arm of Fort Peck Reservoir.

The Musselshell-Judith Rural Water System Appraisal Investigation was conducted by the Central Montana Regional Water Authority to assess the viability of developing a rural water system to serve about 4,500 people in 15 incorporated and unincorporated towns in central Montana. The proposed alternative would supply water to the system from a field of groundwater wells in the Utica, Montana area. Water pumped from the Madison Aquifer, a deep underground aquifer, would be distributed from the well field by a branch type system of pipelines, booster pump stations, and storage tanks.

The Lower Niobrara project area is located in Knox County in northeast Nebraska. There is a growing need for an improved water source because of rising nitrate levels in some areas. The proposed study area comprises approximately the central one-third of Knox County, which includes the West Knox Rural Water System (RWS), the Santee Sioux Reservation, and the towns of Creighton, Niobrara, and Center. The preferred alternative for Lower Niobrara consists of expanding the West Knox RWS Well Field to supply Creighton, Niobrara, Center, and the Santee Sioux Reservation.

The Southern Black Hills Water System (SBHWS) project is designed to provide a regional water supply and water delivery system for rural users, special use needs, and community needs for southern Pennington County, all of Custer County, and all of Fall River County, in southwestern South Dakota. The SBHWS appraisal investigation evaluated a number of alternatives ranging from purchasing water from an existing entity, developing new infrastructure, and some non-structural alternatives which include water use polices (e.g., prohibit rural residential growth) and water conservation (e.g., leak detection surveys).

Dated: July 11, 2011.
Roseann Gonzales,
Director, Policy and Administration.

[FR Doc. 2011-20392 Filed 8-10-11; 8:45 am]

BILLING CODE 4310-MN-P